DEPARTMENT OF JUSTICE

Notice of Federal Advisory Committee Meeting

AGENCY: Department of Justice.

ACTION: Notice of Federal Advisory Committee Meeting.

SUMMARY: This notice announces a forthcoming public meeting of the National Commission on Forensic Science.

DATES: The meeting will be held on February 3, 2014, from 9 a.m. to 5:00 p.m. and February 4, 2014 from 9 a.m. to 1:30 p.m. On-line registration for the meeting must be completed on or before 5:00 p.m. (EST) January 27, 2014 (see “Procedures” for detailed registration information).

Location: Office of Justice Programs, 3rd floor ballroom. 810 7th Street NW., Washington, DC 20531.

FOR FURTHER INFORMATION CONTACT: Brette Steele, Senior Forensic Science Advisor and Senior Counsel to the the Deputy Attorney General, by email at Brette.L.Steele@usdoj.gov or by phone at (202) 305-0180.

SUPPLEMENTARY INFORMATION:

Agenda: On February 3, the meeting will be called to order at 9:00 a.m. The meeting will begin with communicating administrative information to the Commission members. Welcoming remarks will be delivered by the co-chairs, Deputy Attorney General James M. Cole and Under Secretary of Commerce for Standards and Technology and NIST Director Patrick D. Gallagher. The afternoon will include presentations of background information on issues such as accreditation, certification, and proficiency testing. The afternoon will close with a one-hour public comment period.

On February 4, 2014, the meeting will be called to order at 9:00 a.m. The Commissioners will receive background on forensic science standards and an update on forensic science initiatives from NIST. The Commissioners will then discuss issues to be considered and establish short term and long term priorities. The afternoon will close with a one-hour public comment period.

Materials: Background material will be made available to the public on www.facadatabase.gov under committee number 83353.

Procedures: The meeting will be open to the public. Those interested in attending the meeting in person will be required to register in advance and will be subject to security screening. Seating in the meeting room is limited and will be available on a first-come, first-served basis. Overflow space will be made available with video feed of the proceedings for those who cannot be accommodated in the meeting room. All persons who are interested in being on-site for the meeting must register on-line at http://conferences.csrincorporated.com by using conference code: 2014-103P no later than 5:00 p.m. (EST) January 27, 2014.

Members of the public may present oral or written comments on issues pending before the Commission. Oral comments from the public will be scheduled between approximately 4:00 p.m. and 5:00 p.m. on February 3 and 12:30-1:30 p.m. on February 4. Those individuals interested in making oral comments should indicate their intent through the on-line registration form and will be allocated on a first-come, first-served basis. Time allotted for an individual's comment period will be limited to no more than 3 minutes. Written public comments are also accepted and may be submitted to Brette Steele no later than 5:00 p.m. (EST) on January 27, 2014. If the number of registrants requesting to speak is greater than can be reasonably accommodated during the scheduled public comment periods, written comments will be accepted in lieu of oral comments. All submitted comments, written or oral, will be made available to the public.

The Department of Justice welcomes the attendance of the public at its advisory committee meetings and will make every effort to accommodate persons with physical disabilities or special needs. If you require special accommodations, please indicate your requirements on the on-line registration form.

James M. Cole,
Deputy Attorney General.

[FR Doc. 2014-00943 Filed 1-17-14; 8:45 am]

BILLING CODE 4410-18-P